NATIONAL FOUNDATION ON THE ARTS AND THE HUMANITIES

National Endowment for the Arts

60-Day Notice for the “NEA Panelist Profile Data”

AGENCY: National Endowment for the Arts, National Foundation on the Arts and the Humanities.

ACTION: Notice of proposed collection; comment request.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data is provided in the desired format; reporting burden (time and financial resources) is minimized; collection instruments are clearly understood; and the impact of collection requirements on respondents is properly assessed. Currently, the NEA is soliciting comments concerning the proposed information collection of NEA panelist profile data. A copy of the current information collection request can be obtained by contacting the office listed below in the address section of this notice.

DATES: Written comments must be submitted to the office listed in the ADDRESSES section below within 60 days from the date of this publication in the Federal Register.

ADDRESSES: Email comments to Daniel Beattie, Director, Office of Guidelines and Panel Operations, National Endowment for the Arts, at: beattied@arts.gov.

FOR FURTHER INFORMATION CONTACT: Daniel Beattie, Director of Guidelines and Panel Operations, National Endowment for the Arts, at: beattied@arts.gov or 202-682-5688.

The NEA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Can help the agency minimize the burden of the collection of information on those who are to respond, including through the electronic submission of responses.

Dated: April 16, 2024.
Daniel Beattie,
Director of Guidelines and Panel Operations, National Endowment for the Arts.

[FR Doc. 2024-08498 Filed 4-19-24; 8:45 am]

BILLING CODE 7537-01-P